DEPARTMENT OF TRANSPORTATION

Federal Highway Administration

Notice of Final Federal Agency Actions on Proposed Highway in Tennessee Improvement Project in Tennessee

AGENCY: Federal Highway Administration (FHWA), DOT.

ACTION: Notice of limitation on claims for judicial review of actions by FHWA and other Federal agencies.

SUMMARY: This notice announces actions taken by the FHWA and other Federal agencies that are final within the meaning of U.S.C. 139(I)(1). The actions relate to a proposed highway project, State Route (SR) 162 (Pellissippi Parkway Extension) Improvements, from SR 33 (Old Knoxville Highway) to US 321/SR 73 (Lamar Alexander Parkway) in Blount County, Tennessee. Those actions grant licenses, permits, and approvals for the project.

DATES: By this notice, the FHWA is advising the public of final agency actions subject to 23 U.S.C. 139(I)(1). A claim seeking judicial review of the Federal agency actions on the highway project will be barred unless the claim is filed on or before February 9, 2018. If the Federal law that authorizes judicial review of a claim provides a time period of less than 150 days for filing such claim, then that shorter time period still applies.

FOR FURTHER INFORMATION CONTACT: For FHWA: Ms. Theresa Claxton; Planning and Program Management Team Leader; Federal Highway Administration; Tennessee Division Office; 404 BNA Drive, Building 200, Suite 508; Nashville, Tennessee 37217; Telephone (615) 781-5770; email: Theresa.Claxton@dot.gov. FHWA Tennessee Division Office's normal business hours are 7:30 a.m. to 4:00 p.m. (Central Time). You may also contact Susannah Kniazewycz, Environmental Division Director, Tennessee Department of Transportation (TDOT), James K. Polk Building, Suite 900, 505 Deaderick Street, Nashville, Tennessee 37243-0334; Telephone (615) 741-3655, Susannah.Kniazewycz@tn.gov. TDOT Environmental Division's normal business hours are 8 a.m. to 4:30 p.m. (Central Time).

SUPPLEMENTARY INFORMATION: Notice is hereby given that the FHWA and other Federal agencies have taken final agency actions by issuing licenses, permits, and approvals for the following highway project in the State of Tennessee: SR 162 (Pellissippi Parkway) Improvements, Blount County, Tennessee. The proposed action will extend and construct a new 4.38-mile section of SR 162 (Pellissippi Parkway) from the current terminus of Pellissippi Parkway/I-140 at SR 33 (Old Knoxville Highway) to US 321/SR 73 (Lamar Alexander Parkway). The Selected Alternative (Preferred Alternative) proposes a four-lane divided highway with two travel lanes in each direction. Portions of the corridor include diamond interchanges to connect the new roadway with SR 33 and US 11/Sevierville Road, and a trumpet interchange to terminate the new roadway at US 321/SR 73.

The actions by the Federal agencies, and the laws under which such actions were taken, are described in the Final Environmental Impact Statement (FEIS) for the project, approved on September 10, 2015; in the FHWA Record of Decision (ROD) issued on August 31, 2017; and in other documents in the FHWA project records. The FEIS, ROD, and other documents in the FHWA project records are available by contacting the FHWA or TDOT at the addresses provided above. The FHWA FEIS and ROD can be viewed and downloaded from the project Web site at https://www.tn.gov/tdot/topic/pellissippi, or viewed at the TDOT—Environmental Division, James K. Polk Building, Suite 900, 505 Deaderick Street, Nashville, Tennessee 37243-0334.

This notice applies to all Federal agency decisions as of the issuance date of this notice and all laws under which such actions were taken, including but not limited to:

1. General: National Environmental Policy Act (NEPA) [42 U.S.C. 4321-4351]; Federal-Aid Highway Act [23 U.S.C. 109, 23 U.S.C. 128, and 23 U.S.C. 139].

2. Air: Clean Air Act [42 U.S.C. 7401-7671(q).

3. Land: Section 4(f) of the Department of Transportation Act of 1966 [23 U.S.C. 138 and 49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 4201-4209].

7. Wetlands and Water Resources: Clean Water Act (Section 404, Section 401, and Section 319) [33 U.S.C. 1251-1377].

8. Hazardous Materials: Comprehensive Environmental Response, Compensation, and Liability Act (CERCLA) [42 U.S.C. 9601-9675].

9. Executive Orders: E.O. 11990 Protection of Wetlands; E.O. 11988 Floodplain Management; E.O. 13112 Invasive Species; E.O. 12898 Federal Actions to Address Environmental Justice in Minority Populations and Low Income Populations; E.O. 13175 Consultation and Coordination with Indian Tribal Governments; E.O. 13166 Improving Access to Services for Persons with Limited English Proficiency (LEP); E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1), as amended by the Fixing America's Surface Transportation Act (FAST Act), Pub. L. No. 114-94.

Issued on: August 31, 2017.
Pamela M. Kordenbrock,
Division Administrator, Nashville, Tennessee.

[FR Doc. 2017-19173 Filed 9-11-17; 8:45 am]

BILLING CODE 4910-RY-P